STATE JUSTICE INSTITUTE

SJI Board of Directors Meeting, Notice

AGENCY: State Justice Institute.

ACTION: Notice of Meeting.

SUMMARY: The SJI Board of Directors will be meeting on Monday, June 24, 2013 at 1:00 p.m. The meeting will be held at the Supreme Court of Connecticut in Hartford, Connecticut. The purpose of this meeting is to consider grant applications for the 3rd quarter of FY 2013, and other business. All portions of this meeting are open to the public.

ADDRESSES: Supreme Court of Connecticut, 231 Capitol Ave. Attorney's Conference Room, Main Level.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2013-13390 Filed 6-5-13; 8:45 am]

BILLING CODE P